SOCIAL SECURITY ADMINISTRATION

Agency Information Collection Activities: Proposed Request and Comment Request

In compliance with Public Law 104-13, the Paperwork Reduction Act of 1995, SSA is providing notice of its information collections that require submission to the Office of Management and Budget (OMB). SSA is soliciting comments on the accuracy of the agency's burden estimate; the need for the information; its practical utility; ways to enhance its quality, utility and clarity; and on ways to minimize burden on respondents, including the use of automated collection techniques or other forms of information technology.

The information collections listed below have been submitted to OMB for clearance. Written comments and recommendations on the information collections would be most useful if received within 30 days from the date of this publication. Comments should be directed to the SSA Reports Clearance Officer and the OMB Desk Officer at the addresses listed at the end of this publication. You can obtain a copy of the OMB clearance packages by calling the SSA Reports Clearance Officer on (410) 965-4145, or by writing to him.

1. Integrated Registration for Employers and Submitters (IRES)-0960-NEW. The IRES authentication system is a free service designed to allow employers to access SSA's electronic wage reporting services, and to replace the use of a handwritten signature with an electronic signature. Employer representatives will use an IRES generated PIN and password as their electronic signature. IRES was designed to be more efficient, reducing the costs to both employers and SSA, and will facilitate the filing of wage data electronically.

SSA's paramount interest in the development of IRES was to ensure that the new electronic method of identifying wage report submitters provides the same security features as the current paper-based method. Security features will include message integrity, originator authentication, non-repudiation and confidentiality. The PIN and password will be issued to an individual designated by the employer after SSA authenticates the company and contact information provided by the individual.

SSA plans to use the IRES in conjunction with SSA's wage reporting processes. It will be used as the gateway for electronic wage reporting and the Online Employee Verification Service. It will also be used when SSA implements additional electronic services such as electronic notices and error information. The PIN will also be used in the AWR diskette process to replace the signature on IRS paper form 6559. SSA has received approval from IRS to use an alternative signature.

Respondents to IRES will be Employers and Submitters who utilize SSA's electronic wage reporting and Online Employee Verification Services.

Number of respondents: 250,000.

Number of Response: 1.

Average burden per response: 2 minutes.

Estimated Annual Burden: 8,333 hours.

2. Psychiatric Review Technique-0960-0413. The information collected on Form SSA-2506 is needed by SSA to facilitate the adjudication of claims involving mental impairments. The information is used to identify the need for additional evidence in the determination of impairment severity; to consider aspects of mental impairment relevant to the individual's ability to work; and to organize and present the findings in a clear, concise manner. The respondents are State DDS's administering titles II and XVI disability programs.

Number of Respondents: 1,005,804.

Frequency of Response: 1.

Average Burden Per Response: 15 minutes.

Estimated Annual Burden: 251,451 hours.

(SSA Address)

Social Security Administration, DCFAM, Attn: Frederick W. Brickenkamp, 1-A-21 Operations Bldg., 6401 Security Blvd., Baltimore, MD 21235

(OMB Address)

Office of Management and Budget, OIRA, Attn: Desk Officer for SSA, New Executive Office Building, Room 10235, 725 17th St., NW, Washington, D.C. 20503

Dated: August 8, 2000.
Frederick W. Brickenkamp,
Reports Clearance Officer, Social Security Administration.

[FR Doc. 00-20470 Filed 8-11-00; 8:45 am]

BILLING CODE 4191-02-U